DEPARTMENT OF AGRICULTURE

Forest Service

Rogue River-Siskiyou National Forest; Oregon; Shasta Agness Landscape Restoration Project Environmental Impact Statement

AGENCY: Forest Service, USDA.

ACTION: Notice of intent to prepare an environmental impact statement.

SUMMARY: The USDA Forest Service, Rogue River-Siskiyou National Forest (RRSNF), Gold Beach Ranger District is providing notice that it will prepare an environmental impact statement (EIS) for the Shasta Agness Landscape Restoration Project, which would implement multiple landscape restoration actions on National Forest System lands within an approximately 93,000-acre project planning area. Restoration actions include vegetation treatments, prescribed fire, sustainable recreation, and sustainable roads actions. In order to implement the project, the Forest Service identified the need for a project-specific amendment to exempt commercial and noncommercial thinning restoration actions in unique oak and pine units from the silviculture standard. This notice identifies the planning rule provisions likely to be directly related to the plan amendment.

DATES: Comments concerning the scope of the analysis must be received by February 5, 2018. The draft environmental impact statement is expected early 2018, and the final environmental impact statement is expected fall of 2018.

ADDRESSES: Send written comments to Rogue River-Siskiyou National Forest (RRSNF), 3040 Biddle Road, Medford, OR 97504.

Comments may also be submitted online at https://cara.ecosystem-management.org/Public//CommentInput?Project=49607; or via the Gold Beach Ranger District facsimile at 541-247-3641; or the RRSNF facsimile at (541) 618-2400.

FOR FURTHER INFORMATION CONTACT: Craig Trulock, Deputy Forest Supervisor, ctrulock@fs.fed.us, 541-618-2032. Individuals who use telecommunication devices for the deaf may call the Federal Information Relay Service at 1-800-877-8339 between 8 a.m. and 8 p.m., Eastern Time, Monday through Friday.

SUPPLEMENTARY INFORMATION:

Purpose and Need

As a result of past fire exclusion and vegetation management regimes conducted within the project area, current ecosystem conditions have departed from natural conditions and exhibit lower compositions of certain species, plant communities, and habitat types. The result is that some of these rare, highly specialized, and unique habitat types and plant associations are in decline and at risk of being lost or greatly reduced.

Oak and pine savannahs and woodlands have suffered substantial losses in both areal extent and ecological integrity due to fire suppression and the resulting invading conifers. Composition, structure, and important habitat types associated with oak and pine vegetation communities are transitioning to a closed-canopy Douglas-fir forest, which is resulting in reduction and loss of these unique habitats.

The overall purpose of the project is to restore resilience and ecological integrity to unique ecosystems and to aquatic and riparian habitats, to conserve and accelerate the development of late-successional forests while preserving species diversity, and to provide a diverse range of high-quality, sustainable recreation opportunities supported by an environmentally sustainable road system.

Proposed Action

Proposed project management activities include: Restoring unique oak savannahs and woodlands; restoring sugar pine and Jeffrey pine savannahs and woodlands; accelerating development of late seral forest structures; reducing spread of the Port-Orford-cedar root disease via roadside sanitation; implementing burn blocks of prescribed fire in and between thinning restoration units; improving water quality; rehabilitating soils impacted by past management activities and natural events; enhancing habitat conditions in aquatic and riparian areas for endangered and threatened fish species; reducing hydrologic impacts of excess or poorly designed roads; and managing recreational opportunities and needs in a sustainable manner.

Variable and radial density thinning along with application of prescribed fire would be the primary restoration actions for the oak, pine, and plantation units. In order to optimize terrain features and weather windows and to achieve low-intensity prescribed fire conditions, burning would occur during spring-like conditions and include blocks of land between identified restoration thinning units. Roadside sanitation via removal of POC along identified road prisms would address the spread of root disease. Changes in road maintenance levels would address both water quality and sustainable recreation needs. Campground and trail maintenance and closures would address sustainable recreation needs. The RTV Plan would identify high-priority sites within the three watersheds analyzed and provide management direction to ensure RTV persistence and protection. This and future projects within those watersheds would follow that guidance.

Portions of the project restoration units are located within the designated Fishhook Late Successional Reserve (LSR), which is geographically nested within the designated Southwest Oregon (SWOR) LSR, per the evaluation found in the SWOR Late-successional Reserve Assessment (USDA Forest Service and USDI Bureau of Land Management 1995). Because of this, the proposed radial and variable density thinning to reduce competition around shade-intolerant oaks and pines, the restoration of forest structures and patterns, POC sanitation, and the reintroduction of ecological process and disturbance regimes (fire) all would be required to maintain consistency with the 1989 Siskiyou Land Resources Management Plan (LRMP) and as amended by the NWFP. The NWFP provides standards, guidelines, goals, and desired conditions for protecting and maintaining LSR resources.

However, proposed commercial and noncommercial restoration thinning in older LSR stands would not comply with one NWFP silviculture standard: C-12, which prohibits harvest in stand over 80 years old in LSR (LRMP and NWFP; USDA Forest Service 1989; as amended by USDA Forest Service, USDI Bureau of Land Management, 1994); incorporated by reference and available at: https://www.fs.usda.gov/detail/rogue-siskiyou/landmanagement/?cid=stelprdb5315100). Therefore, after all reasonable stipulations to minimize adverse environmental impacts on National Forest LSR resources have been included, a project-specific forest plan amendment is required. This amendment would be the only exemption to Plan standards, and all other standards and guidelines would be unaffected.

When proposing a Forest Plan amendment, the 2012 planning rule (36 CFR 219), as amended, requires the responsible official to provide in the initial notice “which substantive requirements of §§ 219.8 through 219.11 are likely to be directly related to the amendment” (36 CFR 219.13 (b)(2)). Whether a rule provision is likely to be directly related to an amendment is determined by any one of the following: The purpose for the amendment, a beneficial effect of the amendment, a substantial adverse effect of the amendment, or a lessening of plan protections by the amendment. Based on this amendment proposal and requirements of the planning rule, the following substantive requirements of the 36 CFR 219 planning regulations would likely be directly related to the proposed amendment:

§ 219.8(a)(1)(i)—[ . . . the plan must include plan components to maintain or restore . . . ] Interdependence of terrestrial and aquatic ecosystems in the plan area;

§ 219.8(a)(1)(ii) Contributions of the plan area to ecological conditions within the broader landscape influenced by the plan area;

§ 219.8(a)(1)(iii) Conditions in the broader landscape that may influence the sustainability of resources and ecosystems within the plan area;

§ 219.8(a)(1)(iv) System drivers, including dominant ecological processes, disturbance regimes, and stressors, such as natural succession, wildland fire, invasive species, and climate change; and the ability of terrestrial and aquatic ecosystems on the plan area to adapt to change;

§ 219.8(a)(1)(v) Wildland fire and opportunities to restore fire adapted ecosystems;

§ 219.8(a)(1)(vi) Opportunities for landscape scale restoration;

§ 219.8(a)(2)(ii) Soils and soil productivity, including guidance to reduce soil erosion and sedimentation.

§ 219.8(a)(2)(iii) Water quality;

§ 219.8(a)(3)(i)—[ . . . the plan must include plan components to maintain or restore the ecological integrity of riparian areas in the plan area . . . ] including plan components to maintain or restore structure, function, composition, and connectivity . . . ;

§ 219.8(a)(3)(ii) Plans must establish width(s) for riparian management zones;

§ 219.8(b)(1)—[ . . . the plan must include plan components to guide the plan area's contribution to social and economic sustainability . . . ] Social, cultural and economic conditions relevant to the area influenced by the plan;

§ 219.8(b)(2) Sustainable recreation; including recreation settings, opportunities, and access; and scenic character;

§ 219.8(b)(3) Multiple uses that contribute to local, regional, and national economies in a sustainable manner;

§ 219.8(b)(4) Ecosystem services;

§ 219.8(b)(5) Cultural and historic resources and uses;

§ 219.9(a)(1)—[ . . . plan must provide for the diversity of plant and animal communities and include plan components to maintain or restore . . . ] Ecosystem integrity;

§ 219.9(a)(2)(i) Key characteristics associated with terrestrial and aquatic ecosystem types;

§ 219.9(a)(2)(ii) Rare aquatic and terrestrial plant and animal communities;

§ 219.9(a)(2)(iii) The diversity of native tree species similar to that existing in the plan area;

§ 219.9(b)(1)—[ . . . plan must provide for the diversity of plant and animal communities and must include plan components to maintain or restore additional species-specific plan components . . . ] Provide the ecological conditions necessary to: contribute to the recovery of federally listed threatened and endangered species, conserve proposed and candidate species, and maintain a viable population of each species of conservation concern within the plan area . . . ;

§ 219.9(c)—[ . . . plan must provide for the diversity of plant and animal communities and must include plan components to maintain or restore additional species-specific plan components . . . ] Species of conservation concern . . . for which the regional forester has determined that the best available scientific information indicates substantial concern about the species' capability to persist over the long-term in the plan area;

§ 219.10(a)(1)—[ . . . plan must include plan components . . . for integrated resource management to provide for ecosystem services and multiple uses in the plan area . . . the responsible official shall consider: . . . ] Aesthetic values, cultural and heritage resources, ecosystem services, fish and wildlife species, forage, grazing and rangelands, habitat and habitat connectivity, recreation settings and opportunities, riparian areas, scenery, soil, surface water quality, timber, vegetation, viewsheds;

§ 219.10(a)(5) Habitat conditions, subject to the requirements of § 219.9, for wildlife, fish, and plants commonly enjoyed and used by the public; for hunting, fishing, trapping, gathering, observing, subsistence, and other activities (in collaboration with federally recognized Tribes, Alaska Native Corporations, other Federal agencies, and State and local governments);

§ 219.10(a)(7) Reasonably foreseeable risks to ecological, social, and economic sustainability;

§ 219.10(a)(8) System drivers, including dominant ecological processes, disturbance regimes, and stressors, such as natural succession, wildland fire, invasive species, and climate change; and the ability of the terrestrial and aquatic ecosystems on the plan area to adapt to change (§ 219.8);

§ 219.11(c)—[ . . . plan must include plan components . . . and other plan content regarding timber management within Forest Service authority and the inherent capability of the plan area, . . . ] Timber harvest for purposes other than timber production . . . as a tool to assist in achieving or maintaining one or more applicable desired conditions or objectives of the plan in order to protect other multiple-use values, and for salvage, sanitation, or public health or safety. Examples of using timber harvest to protect other multiple use values may include improving wildlife or fish habitat, thinning to reduce fire risk, or restoring meadow or savanna ecosystems where trees have invaded;

If this proposed project-specific amendment is determined to be directly related to the substantive rule requirements, the responsible official must apply those requirements within the scope and scale of the amendment and, if necessary, make adjustments to the amendment to meet these rule requirements (36 CFR 219.13 (b)(5) and (6)).

Possible Alternatives

The Shasta Agness Landscape Restoration Project has emphasized early and substantive collaboration in its development. Robust engagement and contributions to project location, design, and proposed restoration components were derived from collaboration with members of the Wild Rivers Coast Forest Collaborative (WRCFC). As a result of that collaboration, additional District analyses, and public input from scoping comments, the Forest Service identified and evaluated four alternatives, including the no action alternative. The proposed action is a slightly modified version of the proposed scoping action described in the initial scoping letter. The other two action alternatives include varying degrees and types of recreational opportunities and restoration treatments. All action alternatives were related to proposals put forth by the WRCFC as evaluated by Forest staff. The no action alternative provides the baseline conditions with which to compare the action alternatives; it assumes conditions which would occur if no decision related to this project were implemented.

Responsible Official

The responsible official for this decision will be the Forest Supervisor for the Rogue River-Siskiyou National Forest.

Nature of Decision To Be Made

The Forest Supervisor will decide where, and whether or not, to take action to meet desired conditions within the planning area. The responsible official also will decide how to mitigate any potential impacts of these actions and will determine when and how possible effects monitoring would take place. The final project decision and rationale will be documented in a Record of Decision supported by a final EIS.

Per 36 CFR 218.7(a)(2), this is a project proposing to implement a land management plan and is not authorized under the Healthy Forests Restoration Act (HFRA). Therefore, it is subject to both subparts A and B of 36 CFR 218, Project-level Predecisional Administrative Review Process.

Decisions by the Forest Supervisor to approve project-specific plan amendments are subject to the Administrative Review Process of 36 CFR 218 Subpart A, in accordance with 36 CFR 219.59 (b). The term “project specific” refers to amendments that would only apply to the proposed project and would not apply to any future management actions.

Prior Scoping

Besides ongoing public collaboration with the WRCFC, the Forest Service's project scoping proposal to develop an environmental assessment (EA) was first introduced to the broader public through the Forest Service's schedule of proposed action (SOPA) on June 14, 2016. A legal notice to initiate the 30-day NEPA public comment scoping period for the proposed action was published June 15, 2016 in the Curry County Reporter and in the Grants Pass Daily Courier. The proposed action and detailed maps were made available on the USFS website: http://www.fs.usda.gov/projects/rogue-siskiyou/landmanagement/projects. Additionally, a public comment scoping letter dated June 15, 2016, was mailed via post to over 200 and electronically sent to over 60 individuals, organizations, and agencies who had expressed interest in being informed of projects on the Gold Beach Ranger District. Letters summarized the proposed action and included directions to the Forest's website for more information. The formal scoping period ended July 15, 2016. During the scoping period, the Forest Service received input from 13 commenters representing a spectrum of individuals and groups from Oregon and Idaho. Comments received also were posted on the project website and can be viewed here: http://www.fs.fed.us/nepa/nepa_project_exp.php?project=49607.

The project originally was released for scoping comments as an environmental assessment (EA) as described above. Subsequent to the initial EA scoping efforts and based on the overall project scope and complexity—including its associated analyses—it was determined that an EIS would better provide a more appropriate vehicle than an EA for evaluating project information important to the public and decision-maker. Though the Forest Service anticipates and intends that this project will be beneficial for landscape restoration, due to these complex circumstances, the Forest Service proposes to develop an EIS to ensure sufficient analysis and to further the intent of NEPA.

Scoping Process

Comments and submittals already received during the previously conducted public scoping comment period are part of the record and have been considered during further development of the project and its draft EIS and need not be re-submitted for the commenter to retain standing in the event of possible future objections. Furthermore, the draft EIS, including analysis of the project-specific plan amendment, is anticipated to be filed with the Enviromental Protection Agency (EPA) and available for public review and a designated 45-day public comment by early 2018. The EPA will publish a Notice of Availability of the draft EIS in the Federal Register. At such time, detailed instructions for how to submit comments regarding both the project-specific plan amendment and the draft EIS will be provided.

Comments received, including names and addresses of those who comment, will be part of the public record for this proposed action and will be available for public inspection. Comments submitted anonymously will be accepted and considered; however, anonymous comments will not afford the Agency the ability to provide the respondent with subsequent environmental documents, nor will those who submit anonymous comments have standing to object to the subsequent decision under 36 CFR 218.

Access and review for documents related to information in this notice is available at: http://www.fs.fed.us/nepa/nepa_project_exp.php?project=49607.

Dated: December 21, 2017.
Glenn P. Casamassa,
Associate Deputy Chief, National Forest System.

[FR Doc. 2018-00049 Filed 1-4-18; 8:45 am]

BILLING CODE 3411-15-P